DEPARTMENT OF JUSTICE

Drug Enforcement Administration

Importer of Controlled Substances; Notice of Registration

By notice dated May 17, 2006, and published in the Federal Register on May 25, 2006, (71 FR 30166), Mallinckrodt Inc., 3600 North Second Street, St. Louis, Missouri 63147, made application by renewal to the Drug Enforcement Administration (DEA) to be registered as an importer of the basic classes of controlled substances listed in schedule II:

Drug | Schedule
Phenylacetone (8501) | II
Coca Leaves (9040) | II
Opium, raw (9600) | II
Poppy Straw (9650) | II
Poppy Straw Concentrate (9670) | II

The company plans to import the listed controlled substances for the manufacture of controlled substances in bulk for distribution to its customers.

One comment was received; however, pursuant to 21 U.S.C. 958 (i) and 21 CFR 1301.34 (a), the commenter which is not a registered bulk manufacturer of the above listed controlled substances, has no legal standing to object or to request a hearing on this application.

DEA has considered the factors in 21 U.S.C. 823(a) and 952(a) and determined that the registration of Mallinckrodt Inc., to import the basic classes of controlled substances is consistent with the public interest and with United States obligations under international treaties, conventions, or protocols in effect on May 1, 1971. DEA has investigated Mallinckrodt Inc. to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: October 31, 2006.
Joseph T. Rannazzisi,
Deputy Assistant Administrator, Office of Diversion Control, Drug Enforcement Administration.

[FR Doc. E6-18716 Filed 11-6-06; 8:45 am]

BILLING CODE 4410-09-P